OFFICE OF THE UNITED STATES TRADE REPRESENTATIVE

Procurement Thresholds for Implementation of the Trade Agreements Act of 1979

AGENCY: Office of the United States Trade Representative.

ACTION: Notice of Determination of Procurement Thresholds.

FOR FURTHER INFORMATION CONTACT: Scott Pietan, Director of International Procurement Policy, Office of the United States Trade Representative, (202) 395-9646 or scott_pietan@ustr.eop.gov.

SUMMARY: Executive Order 12260 requires the United States Trade Representative to set the U.S. dollar thresholds for application of Title III of the Trade Agreements Act of 1979, as amended (19 U.S.C. 2511 et seq.), which implements U.S. trade agreement obligations, including those under the World Trade Organization (WTO) Agreement on Government Procurement, Chapter 15 of the United States-Australia Free Trade Agreement (United States-Australia FTA), Chapter 9 of the United States-Bahrain Free Trade Agreement (United States-Bahrain FTA), Chapter 9 of the United States-Chile Free Trade Agreement (United States-Chile FTA), Chapter 9 of the United States-Colombia Free Trade Agreement (United States-Colombia FTA), Chapter 9 of the Dominican Republic-Central American-United States Free Trade Agreement (DR-CAFTA), Chapter 9 of the United States-Morocco Free Trade Agreement (United States-Morocco FTA), Chapter 10 of the North American Free Trade Agreement (NAFTA), Chapter 9 of the United States-Oman Free Trade Agreement (United States-Oman FTA), Chapter 9 of the United States-Panama Trade Promotion Agreement (United States-Panama TPA), Chapter 9 of the United States-Peru Trade Promotion Agreement (United States-Peru TPA), and Chapter 13 of the United States-Singapore Free Trade Agreement (United States-Singapore FTA). These obligations apply to covered procurements valued at or above specified U.S. dollar thresholds.

Now, therefore, I, Michael B.G. Froman, United States Trade Representative, in conformity with the provisions of Executive Order 12260, and in order to carry out U.S. trade agreement obligations under the WTO Agreement on Government Procurement, Chapter 15 of the United States-Australia FTA, Chapter 9 of the United States-Bahrain FTA, Chapter 9 of the United States-Chile FTA, Chapter 9 of the United States-Colombia FTA, Chapter 9 of DR-CAFTA, Chapter 9 of the United States-Morocco FTA, Chapter 10 of NAFTA, Chapter 9 of the United States-Oman FTA, Chapter 9 of the United States-Panama TPA, Chapter 9 of the United States-Peru TPA, and Chapter 13 of the United States-Singapore FTA, do hereby determine, effective on January 1, 2016:

For the calendar years 2016 and 2017, the thresholds are as follows:

I. WTO Agreement on Government Procurement

A. Central Government Entities listed in U.S. Annex 1:

(1) Procurement of goods and services—$191,000; and

(2) Procurement of construction services—$7,358,000.

B. Sub-Central Government Entities listed in U.S. Annex 2:

(1) Procurement of goods and services—$522,000; and

(2) Procurement of construction services—$7,358,000.

C. Other Entities listed in U.S. Annex 3:

(1) Procurement of goods and services—$589,000; and

(2) Procurement of construction services—$7,358,000.

II. United States-Australia FTA, Chapter 15

A. Central Government Entities listed in the U.S. Schedule to Annex 15-A, Section 1:

(1) Procurement of goods and services—$77,533; and

(2) Procurement of construction services—$7,358,000.

B. Sub-Central Government Entities listed in the U.S. Schedule to Annex 15-A, Section 2:

(1) Procurement of goods and services—$522,000; and

(2) Procurement of construction services—$7,358,000.

C. Other Entities listed in the U.S. Schedule to Annex 15-A, Section 3:

(1) Procurement of goods and services for List A Entities— $387,667;

(2) Procurement of goods and services for List B Entities— $589,000;

(3) Procurement of construction services—$7,358,000.

III. United States-Bahrain FTA, Chapter 9

A. Central Government Entities listed in the U.S. Schedule to Annex 9-A-1:

(1) Procurement of goods and services—$191,000; and

(2) Procurement of construction services—$10,079,365.

B. Other Entities listed in the U.S. Schedule to Annex 9-A-2:

(1) Procurement of goods and services for List B entities—$589,000; and

(2) Procurement of construction services—$12,405,952.

IV. United States-Chile FTA, Chapter 9

A. Central Government Entities listed in the U.S. Schedule to Annex 9.1, Section A:

(1) Procurement of goods and services—$77,533; and

(2) Procurement of construction services—$7,358,000.

B. Sub-Central Government Entities listed in the U.S. Schedule to Annex 9.1, Section B:

(1) Procurement of goods and services—$522,000; and

(2) Procurement of construction services—$7,358,000.

C. Other Entities listed in the U.S. Schedule to Annex 9.1, Section C:

(1) Procurement of goods and services for List A Entities— $487,667;

(2) Procurement of goods and services for List B Entities— $589,000;

(3) Procurement of construction services—$7,358,000.

V. United States-Colombia TPA, Chapter 9

A. Central Government Entities listed in the U.S. Schedule to Annex 9.1, Section A:

(1) Procurement of goods and services—$77,533; and

(2) Procurement of construction services—$7,358,000.

B. Sub-Central Government Entities listed in the U.S. Schedule to Annex 9.1, Section B:

(1) Procurement of goods and services—$522,000; and

(2) Procurement of construction services—$7,358,000.

C. Other Entities listed in the U.S. Schedule to Annex 9.1, Section C:

(1) Procurement of goods and services for List B Entities— $589,000;

(2) Procurement of construction services—$7,358,000.

VI. DR-CAFTA, Chapter 9

A. Central Government Entities listed in the U.S. Schedule to Annex 9.1.2(b)(i), Section A:

(1) Procurement of goods and services—$77,533; and

(2) Procurement of construction services—$7,358,000.

B. Sub-Central Government Entities listed in the U.S. Schedule to Annex 9.1.2(b)(i), Section B:

(1) Procurement of goods and services—$522,000; and

(2) Procurement of construction services—$7,358,000.

C. Other Entities listed in the U.S. Schedule to Annex 9.1.2(b)(i), Section C:

(1) Procurement of goods and services for List B Entities— $589,000;

(2) Procurement of construction services—$7,358,000.

VII. United States-Morocco FTA, Chapter 9

A. Central Government Entities listed in the U.S. Schedule to Annex 9-A-1:

(1) Procurement of goods and services—$191,000; and

(2) Procurement of construction services—$7,358,000.

B. Sub-Central Government Entities listed in the U.S. Schedule to Annex 9-A-2:

(1) Procurement of goods and services—$522,000; and

(2) Procurement of construction services—$7,358,000.

C. Other Entities listed in the U.S. Schedule to Annex 9-A-3:

(1) Procurement of goods and services for List B Entities— $589,000;

(2) Procurement of construction services—$7,358,000.

VIII. NAFTA, Chapter 10

A. Federal Government Entities listed in the U.S. Schedule to Annex 1001.1a-1:

(1) Procurement of goods and services—$77,533; and

(2) Procurement of construction services—$10,079,365.

B. Government Enterprises listed in the U.S. Schedule to Annex 1001.1a-2:

(1) Procurement of goods and services—$387,667; and

(2) Procurement of construction services—$12,405,952.

IX. United States-Oman FTA, Chapter 9

A. Central Level Government Entities listed in the U.S. Schedule to Annex 9, Section A:

(1) Procurement of goods and services—$191,000; and

(2) Procurement of construction services—$10,079,365.

B. Other Covered Entities listed in the U.S. Schedule to Annex 9, Section B:

(1) Procurement of goods and services for List B Entities— $589,000;

(2) Procurement of construction services—$12,405,952.

X. United States-Panama TPA, Chapter 9

A. Central Government Entities listed in the U.S. Schedule to Annex 9.1, Section A:

(1) Procurement of goods and services—$191,000; and

(2) Procurement of construction services—$7,358,000.

B. Sub-Central Government Entities listed in the U.S. Schedule to Annex 9.1, Section B:

(1) Procurement of goods and services—$522,000; and

(2) Procurement of construction services—$7,358,000.

C. Other Entities listed in the U.S. Schedule to Annex 9.1, Section C:

(1) Procurement of goods and services for List B Entities— $589,000;

(2) Procurement of construction services—$7,358,000.

D. Autoridad del Canal de Panamá

(1) Procurement of goods and services—$589,000.

XI. United States-Peru TPA, Chapter 9

A. Central Government Entities listed in the U.S. Schedule to Annex 9.1, Section A:

(1) Procurement of goods and services—$191,000; and

(2) Procurement of construction services—$7,358,000.

B. Sub-Central Government Entities listed in the U.S. Schedule to Annex 9.1, Section B:

(1) Procurement of goods and services—$522,000; and

(2) Procurement of construction services—$7,358,000.

C. Other Entities listed in the U.S. Schedule to Annex 9.1, Section C:

(1) Procurement of goods and services for List B Entities— $589,000;

(2) Procurement of construction services—$7,358,000.

XII. United States-Singapore FTA, Chapter 13

A. Central Government Entities listed in the U.S. Schedule to Annex 13A, Schedule 1, Section A:

(1) Procurement of goods and services—$77,533; and

(2) Procurement of construction services—$7,358,000.

B. Sub-Central Government Entities listed in the U.S. Schedule to Annex 13A, Schedule 1, Section B:

(1) Procurement of goods and services—$522,000; and

(2) Procurement of construction services—$7,358,000.

C. Other Entities listed in the U.S. Schedule to Annex 13A, Schedule 1, Section C:

(1) Procurement of goods and services—$589,000;

(2) Procurement of construction services—$7,358,000.

Michael B.G. Froman,
United States Trade Representative.

[FR Doc. 2015-31503 Filed 12-14-15; 8:45 am]

BILLING CODE 3290-F6-P